NATIONAL SCIENCE FOUNDATION

Sunshine Act Meeting; National Science Board

The National Science Board, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Closed teleconference of the National Science Board, to be held Thursday, August 15, 2019 at 9:15—10:00 a.m. EDT.

PLACE: This meeting will be held by teleconference at the National Science Foundation, 2415 Eisenhower Avenue, Alexandria, VA 22314.

STATUS: Closed.

MATTERS TO BE CONSIDERED: NSB Chair's Opening Remarks; and presentation and vote on 2021 Budget Submissions to the Office of Management and Budget for the National Science Foundation, the National Science Board and the Office of the Inspector General.

CONTACT PERSON FOR MORE INFORMATION: Point of contact for this meeting is: Brad Gutierrez, 2415 Eisenhower Avenue, Alexandria, VA 22314. Telephone: (703) 292-7000.

You may find meeting information and updates (time, place, subject matter or status of meeting) at https://www.nsf.gov/nsb/meetings/notices.jsp#sunshine.

Chris Blair,
Executive Assistant to the National Science Board Office.

[FR Doc. 2019-17452 Filed 8-9-19; 4:15 pm]

BILLING CODE 7555-01-P